DEPARTMENT OF HOMELAND SECURITY

Federal Emergency Management Agency

[Docket ID FEMA-2012-0012]

Record of Decision for the Final National Flood Insurance Program Nationwide Programmatic Environmental Impact Statement

AGENCY: Federal Emergency Management Agency, DHS.

ACTION: Notice of availability of the Record of Decision for the final nationwide programmatic environmental impact statement.

SUMMARY: The Federal Emergency Management Agency (FEMA) announces the availability of the Record of Decision (ROD) for the final nationwide programmatic environmental impact statement (NPEIS) evaluating the environmental impacts of proposed modifications to the National Flood Insurance Program (NFIP). The NPEIS was completed in accordance with the National Environmental Policy Act (NEPA) of 1969, as amended, the Council on Environmental Quality's (CEQ's) regulations for implementing the procedural provisions of NEPA, and FEMA's Directive 108-1 “Environmental Planning and Historic Preservation Responsibilities and Program Requirements.”

ADDRESSES: Electronic versions of the ROD are available for viewing at FEMA's website at https://www.fema.gov/programmatic-environmental-impact-statement.

FOR FURTHER INFORMATION CONTACT: For more information on the ROD, contact Bret Gates, FEMA, Federal Insurance and Mitigation Administration, Floodplain Management Division, 400 C Street SW, Washington, DC 20472, or via email at Bret.Gates@fema.dhs.gov, or by phone at 202-646-2780.

SUPPLEMENTARY INFORMATION: Development of the NFIP NPEIS began with publication of the Notice of Intent in the Federal Register on May 16, 2012. (77 FR 28891) The evaluation process included the NFIP Stakeholder Listening Session with key stakeholders in November 2009. In addition, FEMA conducted two public meetings in December 2010 and opened a public comment period on four alternatives for NFIP Reform. Comments received were considered part of the scoping process for this NPEIS. Additionally, FEMA held three public webinars in April and May of 2014 to further the scoping process. (79 FR 16354, March 25, 2014)

Publication of the draft NPEIS on April 7, 2017 included a 60-day comment period with public meetings and webinars to obtain comments on the document. (82 FR 17023) FEMA accepted comments on the draft NPEIS until June 6, 2017. Comments on the draft NPEIS were incorporated, as appropriate, into the final NPEIS (see Appendix M).

Publication of the final NPEIS on November 3, 2017 (82 FR 51286) initiated a 30-day hold period for the final NPEIS that ended on December 3, 2017. A summary of the comments received on the final NPEIS and explanations as to why changes to the NPEIS were not warranted is included in the ROD.

The modifications to the NFIP are needed to (a) implement the legislative requirements of the Biggert-Waters Flood Insurance Reform Act of 2012 (BW-12) and the Homeowner Flood Insurance Affordability Act of 2014 (HFIAA); and (b) to demonstrate compliance with the Endangered Species Act (ESA). As stated in the final NPEIS, the need to implement the legislative requirements of BW-12 and HFIAA arises from the recent concerns over the fiscal soundness of the NFIP.

The final NPEIS considered four alternatives and described the potential environmental effects of each alternative. With this notice FEMA is announcing the availability of the ROD on the actions to be taken, including potential mitigation measures, and its intent to implement the Preferred Alternative from the NFIP's final NPEIS. The preferred alternative consists of the following program modifications:

—Preferred Alternative 2 (Legislatively Required Changes, Floodplain Management Criteria Guidance, and Letter of Map Change [LOMC] Clarification) (Preferred Alternative)

○ Phase out of subsidies on certain pre-Flood Insurance Rate Map (pre-FIRM) properties (non-primary residences, business properties, severe repetitive loss properties, substantially damaged or improved properties, and properties for which the cumulative claims payments exceed the fair market value of the property) at a rate of 25 percent premium increases per year.

○ Phase out of subsidies on all other pre-FIRM properties through annual premium rate increases of an average rate of at least 5 percent, but no more than 15 percent, per risk classification, with no individual policy exceeding an 18 percent premium rate increase.

○ Implement a monthly installment plan payment option for non-escrowed flood insurance policies.

○ Clarify that pursuant to 44 CFR 60.3(a)(2), a community must obtain and maintain documentation of compliance with the appropriate Federal or State laws, including the ESA, as a condition of issuing floodplain development permits.

○ Clarify that the issuing of certain LOMC requests (i.e., map revisions) is contingent on the community, or the project proponent on the community's behalf, submitting documentation of compliance with the ESA.

The ROD is available for viewing at https://www.fema.gov/programmatic-environmental-impact-statement.

Authority: 42 U.S.C. 4331 et seq.; 40 CFR part 1500; FEMA Instruction 108-1-1.

Dated: May 18, 2018.
Brock Long,
Administrator, Federal Emergency Management Agency.

[FR Doc. 2018-11210 Filed 5-24-18; 8:45 am]

BILLING CODE 9111-A6-P